DEPARTMENT OF AGRICULTURE

Rural Utilities Service

Household Water Well System Program; Notice of Finding of No Significant Impact

AGENCY: Rural Utilities Service, USDA.

ACTION: Notice of finding of no significant impact.

SUMMARY: Notice is hereby given that the Rural Utilities Service (RUS) has made a finding of no significant impact (FONSI) for a new grant program that will implement the Household Water Well System Program (HWWSP) lending program.

FOR FURTHER INFORMATION CONTACT: Mark S. Plank, Senior Environmental Scientist, RUS, Water and Environmental Programs, Engineering and Environmental Staff, 1400 Independence Avenue, SW., Stop 1571, Washington, DC 20250-1571, telephone: (202) 720-1649 or email: mark.plank@usda.gov.

SUPPLEMENTARY INFORMATION: On May 13, 2002, the Farm Security and Rural Investment Act of 2002 (Farm Bill) was signed into law as Public Law 107-171. Section 6012 of the Farm Bill amended Section 306E of the Consolidated Farm and Rural Development Act (CONACT) by adding a grant program to establish a lending program. The program will provide grants to private nonprofit organizations for the purpose of providing loans to eligible individuals for the construction, refurbishing, and servicing of individual household water well systems in rural areas that are or will be owned by the eligible individuals. The program is called the Household Water Well System Program (HWWSP). This program was authorized to appropriate up to $10,000,000 for Fiscal Years (FY) 2003 through 2007. There was no funding appropriated in FY 2003. However, the Consolidated Appropriations Act, 2004 (Pub. L. 108-199), includes $1,000,000 for the program.

The USDA, Rural Utilities Service issued proposed regulations to implement the HWWSP (69 FR 59836, October 6, 2004). The final rule outlines the procedures for providing grants to eligible applicants to establish a revolving loan fund and to pay reasonable administrative expenses. The revolving loan fund will be used to make loans to eligible applicants for the construction, refurbishing, and servicing of individual household water well systems in rural areas that are or will be owned by the eligible individuals. The CONACT defines an “eligible individual” as a person who is a member of a household in which all members have a combined income that is 100 percent or less of the median non-metropolitan household income for the State or territory in which the person resides. The combined household income must be for the most recent 12-month period for which the information is available, according to the most recent decennial census of the United States. The maximum statutory limit per loan per household water well system is $8,000.

Due to similar project activities and a limited area of potential effect of most HWWSP loan approval actions, RUS prepared and published, on September 30, 2004 (69 FR 58389), a Programmatic Environmental Assessment (PEA) to evaluate two Federal actions related to the HWWSP:

(1) Grants awarded by RUS to eligible grant recipients; and (2) Loans made by the grant recipient to eligible loan recipients using the direct or indirect proceeds of a HWWSP grant awarded under this program.

The PEA was available for a 30-day review and comment period; only one comment was received. The comment related to loan recipients and potential construction (as defined in the HWWSP) in special flood hazard areas identified as Zone A or V by the Federal Emergency Management Agency Flood Insurance Rate Maps. The commenter was concerned whether loan proceeds could be used in conjunction with the construction of new homes and, if so, that the construction should be evaluated in accordance with Executive Order 11988, Floodplain Management and other applicable requirements. The HWWSP's authorizing legislative is clear that eligible individuals are limited by definition to the following: 7 CFR 1776.3, “Construction means building or assembling a water well system or portion thereof that is not a water well system or portion thereof being constructed in connection with a new building (emphasis added).” In addition, 7 CFR 1776.14(d), states that “The water well system being funded from the proceeds of the HWWS loan may not be associated with the construction of a new dwelling.” RUS feels that language in the HWWSP is adequate to preclude the construction of new houses in special flood hazard areas.

RUS has determined that the PEA was prepared and reviewed in accordance with the National Environmental Policy Act, as amended (42 U.S.C. 6941 et seq.); the Council on Environmental Quality Regulations for Implementing the Procedural Provisions of the National Environmental Policy Act (40 CFR part 1500); and 7 CFR 1794, RUS' Environmental Policies and Procedures and that the HWWSP will not have a significant impact on the human environment and for which an Environmental Impact Statement will not be prepared.

The mitigation measures identified in the PEA will be incorporated in executed grant agreements. The mitigation measures are as follows:

1. Floodplains

The grant recipient will complete FEMA Form 81-93, Standard Flood Hazard Determination Form for all loans. If a household is located in a special flood hazard area (Code A and V), the revolving loan fund recipient must have flood insurance and the grantee shall obtain flood insurance certifications as part of the revolving loan fund closing process.

2. Water Quality Issues

HWWSP funded projects will be built by contractors that are appropriately licensed to do the work in the State where the project is located. Water withdrawal permits will be obtained as required by the appropriate State or local regulatory agency.

3. Coastal Resources

The grant recipient will obtain written approval from the U.S. Fish and Wildlife Service before approving any proposed loans located in Coastal Barrier Resources System units.

Gary J. Morgan,
Assistant Administrator, Water and Environmental Programs, Rural Utilities Service.

[FR Doc. 04-25447 Filed 11-16-04; 8:45 am]

BILLING CODE 3410-15-P